DEPARTMENT OF AGRICULTURE

Farm Service Agency

Information Collection Request; Disaster Assistance (General)

AGENCY: Farm Service Agency, USDA.

ACTION: Notice; request for comment.

SUMMARY: In accordance with the Paperwork Reduction Act of 1995, the Farm Service Agency (FSA) is requesting comments from all interested individuals and organizations on the extension with a revision of a currently approved information collection in support of Disaster Assistance programs. The information collection is needed to identify disaster areas and establish eligibility for both primary and contiguous counties for assistance from FSA. This assistance includes FSA emergency loans which are available to eligible and qualified farmers and ranchers. The total burden hours have been revised to reflect the number of Secretarial requests for natural disaster assistance during the 2016 crop year.

DATES: We will consider comments that we receive by May 30, 2017.

ADDRESSES: We invite you to submit comments on this notice. In your comment, include the date and page number of this issue of the Federal Register. You may submit comments by any of the following methods:

• Federal eRulemaking Portal: Go to http://regulations.gov. Follow the online instructions for submitting comments.

• Mail: Steve Peterson, Director, Production, Emergencies and Compliance Division, to Farm Service Agency, USDA, Mail Stop 0517, 1400 Independence Avenue SW., Washington, DC 20250-0517.

You may also send comments to the Desk Officer for Agriculture, Office of Information and Regulatory Affairs, Office of Management and Budget, Washington, DC 20503. Copies of the information collection may be requested by contacting Steve Peterson at the above addresses.

FOR FURTHER INFORMATION CONTACT: Tona Huggins, (202) 205-9847.

SUPPLEMENTARY INFORMATION:

Description of Information Collection

Title: Disaster Assistance Program (General).

OMB Number: 0560-0170.

Expiration Date of Approval: 07/31/2017.

Type of Request: Extension with a revision.

Abstract: The information collection is necessary for FSA to effectively administer the regulations related to identifying disaster areas for the purpose of making emergency loans. This program is available to qualified and eligible farmers and ranchers who have suffered weather-related physical or production losses or both in such areas. Before emergency loans can become available, the information needs to be collected to determine if the disaster areas meet the criteria of having a qualifying loss in order to be considered as an eligible County.

The total burden hours have been revised to reflect the number of Secretarial requests for natural disaster assistance during the 2016 crop year.

For the following estimated total annual burden on respondents, the formula used to calculate the total burden hours is the estimated average time per response multiplied by the estimated total annual responses.

Estimate of Average Time To Respond: Public reporting burden for collecting information under this notice is estimated to average 0.435 minutes per response, including the time for reviewing instructions, searching existing data sources, gathering and maintaining the data needed, and completing and reviewing the collection of information.

Respondents: Farmers and ranchers.

Estimated Number of Respondents: 401.

Estimated Average Number of Responses per Respondent: 1.2.

Estimated Total Annual Responses: 492.

Estimated Average Time per Response: 0.435.

Estimated Total Annual Burden on Respondents: 214 hours.

We are requesting comments on all aspects of this information collection to help us to:

(1) Evaluate whether the proposed collection of information is necessary for the proper performance of the functions of the agency, including whether the information will have practical utility;

(2) Evaluate the accuracy of the agency's estimate of burden of the collection of information including the validity of the methodology and assumptions used;

(3) Evaluate the quality, utility and clarity of the information technology; and

(4) Minimize the burden of the information collection on those who respond through the use of appropriate automated, electronic, mechanical, or other technological collection techniques or other forms of information technology.

All comments received in response to this notice, including names and addresses where provided, will be made a matter of public record. Comments will be summarized and included in the request for Office of Management and Budget approval.

Chris P. Beyerhelm,
Acting Administrator, Farm Service Agency.

[FR Doc. 2017-06143 Filed 3-28-17; 8:45 am]

BILLING CODE 3410-05-P